DEPARTMENT OF ENERGY

Federal Energy Regulatory Commission

[Docket No. EG00-226-000, et al.]

Empresa Electrica Puychue S.A., et al.; Electric Rate and Corporate Regulation Filings

July 18, 2000.

Take notice that the following filings have been made with the Commission:

1. Empresa Electrica Puyehue S.A.

[Docket No. EG00-226-000]

Take notice that on July 12, 2000, Empresa Electrica Puyehue S.A., a corporation (sociedad anónima) organized under the laws of the Republic of Chile (Applicant), with its principal place of business at Las Bellotas No. 199, Oficina No. 104, Providencia, Santiago, Chile, filed with the Federal Energy Regulatory Commission an application for determination of exempt wholesale generator status pursuant to Part 365 of the Commission's regulations.

Applicant owns and operates an approximately 39 megawatt hydroelectric power production facility located near Osorno, in southern Chile.

Comment date: August 8, 2000, in accordance with Standard Paragraph E at the end of this notice. The Commission will limit its consideration of comments to those that concern the adequacy or accuracy of the application.

2. Wrightsville Power Facility, L.L.C.

[Docket No. EG00-228-000]

Take notice that on July 17, 2000, Wrightsville Power Facility, L.L.C. (Wrightsville Power Facility), 900 Ashwood Parkway, Suite 500, Atlanta, Georgia 30338-4780, filed with the Federal Energy Regulatory Commission an application for determination of exempt wholesale generator status pursuant to Part 365 of the Commission's regulations.

Wrightsville Power Facility is a Delaware limited liability company that intends to construct, own, and operate a 555 MW generation facility at a site in Wrightsville, Arkansas. Wrightsville Power Facility is engaged directly and exclusively in the business of owning or operating, or both owning and operating, all or part of one or more eligible facilities and selling electric energy at wholesale.

Comment date: August 8, 2000, in accordance with Standard Paragraph E at the end of this notice. The Commission will limit its consideration of comments to those that concern the adequacy or accuracy of the application.

3. Puget Sound Energy, Inc.

[Docket No. ER00-3121-000]

Take notice that on July 12, 2000, Puget Sound Energy, Inc., as Transmission Provider, tendered for filing a Service Agreement for Firm Point-To-Point Transmission Service and a Service Agreement for Non-Firm Point-To-Point Transmission Service with Cargill-Alliant, LLC (Cargill), as Transmission Customer. A copy of the filing was served upon Cargill.

Comment date: August 2, 2000, in accordance with Standard Paragraph E at the end of this notice.

4. Central Maine Power Company

[Docket No. ER00-3122-000]

Take notice that on July 12, 2000, Central Maine Power Company (CMP) tendered for filing notice that CMP submits for filing notice that Central Maine Power Company Open Access Transmission Tariff—FERC Electric Tariff, Fourth Revised Volume No. 3, should be considered modified to adopted the Transmission Loading Relief (TLR) procedures proposed by the North American Electric Reliability Council and accepted by the Commission, in North American Electric Reliability Council, 91 FERC ¶ 61,122 (2000).

Copies of this filing have been served upon all parties to this proceeding.

Comment date: August 2, 2000, in accordance with Standard Paragraph E at the end of this notice.

5. Arizona Public Service Company

[Docket No. ER00-3123-000]

Take notice that on July 12, 2000, Arizona Public Service Company (APS) tendered for filing umbrella Service Agreements to provide Short-Term Firm Point-to-Point Transmission Service to The Cincinnati Gas & Electric Company, an Ohio corporation, PSI Energy, Inc., an Indiana corporation, (collectively Cinergy Operating Companies) and Cinergy Services, Inc., a Delaware corporation, as agent for and on behalf of the Cinergy Operating Companies, and Short-Term Firm and Non-Firm Point-to-Point Transmission Service to San Diego Gas & Electric Company under APS” Open Access Transmission Tariff.

A copy of this filing has been served on Cinergy Services, San Diego Gas & Electric Company, and the Arizona Corporation Commission.

Comment date: August 2, 2000, in accordance with Standard Paragraph E at the end of this notice.

6. Consumers Energy Company

[Docket No. ER00-3124-000]

Take notice that on July 12, 2000, Consumers Energy Company (Consumers) tendered for filing executed transmission service agreements with Public Service Company of Colorado (Customer) pursuant to the Joint Open Access Transmission Service Tariff filed on December 31, 1996 by Consumers and The Detroit Edison Company (Detroit Edison).

The agreements have effective dates of June 29, 2000.

Copies of the filed agreement were served upon the Michigan Public Service Commission, Detroit Edison, and the Customer.

Comment date: August 2, 2000, in accordance with Standard Paragraph E at the end of this notice.

7. Allegheny Energy Service Corporation, on behalf of Allegheny Energy Supply Company LLC

[Docket Nos. ER00-912-000 ER00-2801-000]

Take notice that on July 13, 2000, Allegheny Energy Service Corporation on behalf of Allegheny Energy Supply Company, LLC (Allegheny Energy Supply Company), tendered for filing Second Revised Service Agreement No. 10 to complete the filing requirement for one (1) new Customer of the Market Rate Tariff under which Allegheny Energy Supply offers generation services. The Service Agreement portion of Second Revised Service Agreement No. 10 will maintain the effective date of December 2, 1999, in accordance with the Commission's Order at Docket No. ER00-912-000.

Copies of the filing have been provided to the Public Utilities Commission of Ohio, the Pennsylvania Public Utility Commission, the Maryland Public Service Commission, the Virginia State Corporation Commission, the West Virginia Public Service Commission, and all parties of record.

Comment date: August 3, 2000, in accordance with Standard Paragraph E at the end of this notice.

8. The Montana Power Company

[Docket No. ER98-2382-004]

Take notice that on July 13, 2000, The Montana Power Company (Montana) tendered for filing with the Federal Energy Regulatory Commission (Commission) pursuant to the Commission's order issued May 19, 2000 in these proceedings compliance reports showing amounts refunded by Montana, including interest, collected in excess of the settlement rates in the above-referenced dockets.

A copy of the filing was served upon the state commissions within whose jurisdiction the wholesale customers distribute and sell electric energy at retail.

Comment date: August 3, 2000, in accordance with Standard Paragraph E at the end of this notice.

9. Wisconsin Public Service Corporation

[Docket No. ER00-2295-001]

Take notice that on July 13, 2000, Wisconsin Public Service Corporation (WPSC), tendered for filing a revised MR Tariff in compliance with the Commission's order issued June 14, 2000 in Wisconsin Public Service Corporation, 91 FERC ¶ 61,254. This compliance MR Tariff conforms with the Commission's Order No. 614. WPSC requests a June 1, 2000 effective date.

Copies of the filing were served upon the parties on the official service list, all of WPSC's MR Tariff customers, the state commissions of Wisconsin and Michigan, and other concerned parties.

Comment date: August 3, 2000, in accordance with Standard Paragraph E at the end of this notice.

10. Duquesne Light Company

[Docket No. ER00-3125-000]

Take notice that on July 13, 2000, Duquesne Light Company (DLC), tendered for filing a Service Agreement dated July 12, 2000 with The Legacy Energy Group, LLC under DLC's Open Access Transmission Tariff (Tariff). The Service Agreement adds The Legacy Energy Group, LLC as a customer under the Tariff.

DLC requests an effective date of July 12, 2000 for the Service Agreement.

Comment date: August 3, 2000, in accordance with Standard Paragraph E at the end of this notice.

11. Duquesne Light Company

[Docket No. ER00-3126-000]

Take notice that, Duquesne Light Company (DLC), tendered filing a Service Agreement dated July 12, 2000 with The Legacy Energy Group, LLC under DLC's Open Access Transmission Tariff (Tariff). The Service Agreement adds The Legacy Energy Group, LLC as a customer under the Tariff.

DLC requests an effective date of July 12, 2000, for the Service Agreement.

Comment date: August 3, 2000, in accordance with Standard Paragraph E at the end of this notice.

12. Duquesne Light Company

[Docket No. ER00-3127-000]

Take notice that on July 13, 2000, Duquesne Light Company (DLC), tendered for filing a Service Agreement for Retail Network Integration Transmission Service and a Network Operating Agreement for Retail Network Integration Transmission Service dated July 12, 2000 SmartEnergy.com, Inc., under DLC's Open Access Transmission Tariff (Tariff). The Service Agreement and Network Operating Agreement adds SmartEnergy.com, Inc. as a customer under the Tariff.

DLC requests an effective date of July 12, 2000, for the Service Agreement.

Comment date: August 3, 2000, in accordance with Standard Paragraph E at the end of this notice.

13. Duquesne Light Company

[Docket No. ER00-3128-000]

Take notice that on July 13, 2000, Duquesne Light Company (DLC), tendered for filing a Service Agreement dated July 12, 2000 with PEPCO Energy Services under DLC's Open Access Transmission Tariff (Tariff). The Service Agreement adds PEPCO Energy Services as a customer under the Tariff.

DLC requests an effective date of July 12, 2000, for the Service Agreement.

Comment date: August 3, 2000, in accordance with Standard Paragraph E at the end of this notice.

14. Duquesne Light Company

[Docket No. ER00-3129-000]

Take notice that July 13, 2000, Duquesne Light Company (DLC), tendered for filing a Service Agreement dated July 12, 2000 with PEPCO Energy Services under DLC's Open Access Transmission Tariff (Tariff). The Service Agreement adds PEPCO Energy Services as a customer under the Tariff.

DLC requests an effective date of July 12, 2000, for the Service Agreement.

Comment date: August 3, 2000, in accordance with Standard Paragraph E at the end of this notice.

15. Virginia Electric and Power Company

[Docket No. ER00-3130-000]

Take notice that on July 13, 2000, Virginia Electric and Power Company (Virginia Power or the Company), tendered for filing eight (8) Service Agreements for Long Term Firm Point-to-Point Transmission Service with Virginia Power's merchant function, The Wholesale Power Group. These Agreements will be designated as Service Agreement Nos. 284-291 under Company's FERC Electric Tariff, First Revised Volume No. 5.

The foregoing Service Agreements are tendered for filing under the Open Access Transmission Tariff to Eligible Purchasers dated July 14, 1997. Under the tendered Service Agreements, Virginia Power will provide long term firm point-to-point service to the Transmission Customer under the rates, terms and conditions of the Open Access Transmission Tariff.

Virginia Power requests an effective date of July 13, 2000, the date of filing of the Service Agreements.

Copies of the filing were served upon The Wholesale Power Group, the Virginia State Corporation Commission, and the North Carolina Utilities Commission.

Comment date: August 3, 2000, in accordance with Standard Paragraph E at the end of this notice.

16. Cleco Utility Group Inc.

[Docket No. ER00-3131-000]

Take notice that on July 13, 2000, Cleco Utility Group, Inc., tendered for filing Non-Firm and Short term firm point-to-point transmission service agreements under its Open Access Transmission Tariff with Lafayette Utilities System.

Comment date: August 3, 2000, in accordance with Standard Paragraph E at the end of this notice.

17. Wisconsin Public Service Corporation

[Docket No. ER00-3132-000]

Take notice that on July 13, 2000, Wisconsin Public Service Corporation (WPSC), tendered for filing an executed Service Agreement with Wind Utility Consulting providing for transmission service under FERC Electric Tariff, Volume No. 1.

Comment date: August 3, 2000, in accordance with Standard Paragraph E at the end of this notice.

18. Wisconsin Public Service Corporation

[Docket No. ER00-3133-000]

Take notice that on July 13, 2000, Wisconsin Public Service Corporation (WPSC), tendered for filing an executed Service Agreement with Wind Utility Consulting providing for transmission service under FERC Electric Tariff, Volume No. 1.

WPSC requests that the agreement be accepted for filing and made effective on June 29, 2000.

Comment date: August 3, 2000, in accordance with Standard Paragraph E at the end of this notice.

19. Cleco Utility Group Inc.

[Docket No. ER00-3134-000]

Take notice that on July 13, 2000, Cleco Utility Group, Inc., tendered for filing Non-Firm and Short term firm point-to-point transmission service agreements under its Open Access Transmission Tariff with NRG Power Marketing Inc.

CLECO requests that the Commission accept the Service Agreement with an effective date of July 17, 2000.

Comment date: August 3, 2000, in accordance with Standard Paragraph E at the end of this notice.

20. Allegheny Energy Service Corporation, on behalf of Monongahela Power Company The Potomac Edison Company, and West Penn Power Company (Allegheny Power)

[Docket No. ER00-3135-000]

Take notice that on July 13, 2000, Allegheny Energy Service Corporation on behalf of Monongahela Power Company, The Potomac Edison Company and West Penn Power Company (Allegheny Power), tendered for filing a Notice of Cancellation of Service Agreement No. 69 with Sonat Power Marketing, L.P., a customer under Allegheny Power's Open Access Transmission Service Tariff.

Allegheny Power has requested a waiver of notice to allow the cancellation to be effective June 26, 2000.

Copies of the filing have been provided to the Public Utilities Commission of Ohio, the Pennsylvania Public Utility Commission, the Maryland Public Service Commission, the Virginia State Corporation Commission, and the West Virginia Public Service Commission.

Comment date: August 3, 2000, in accordance with Standard Paragraph E at the end of this notice.

21. Allegheny Energy Service Corporation, on behalf of Monongahela Power Company The Potomac Edison Company, and West Penn Power Company (Allegheny Power)

[Docket No. ER00-3136-000]

Take notice that on July 13, 2000, Allegheny Energy Service Corporation on behalf of Monongahela Power Company, The Potomac Edison Company and West Penn Power Company (Allegheny Power), tendered for filing a Notice of Cancellation of Service Agreement Nos. 49 and 158 with PP&L, Inc., a customer under Allegheny Power's Open Access Transmission Service Tariff.

Allegheny Power has requested a waiver of notice to allow the cancellations to be effective July 1, 2000.

Copies of the filing have been provided to the Public Utilities Commission of Ohio, the Pennsylvania Public Utility Commission, the Maryland Public Service Commission, the Virginia State Corporation Commission, and the West Virginia Public Service Commission.

Comment date: August 3, 2000, in accordance with Standard Paragraph E at the end of this notice.

22. Indeck-Rockford, L.L.C.

[Docket No. ER00-3137-000]

Take notice that on July 13, 2000, Indeck-Rockford, L.L.C., tendered for filing pursuant to Section 205 of the Federal Power Act, and Part 35 of the Commission's Regulations, its long-term Sales Agreement with Commonwealth Edison Company.

Comment date: August 3, 2000, in accordance with Standard Paragraph E at the end of this notice.

23. Central Maine Power Company

[Docket No. ER00-3138-000]

Take notice that on July 13, 2000, Central Maine Power Company (CMP), tendered for filing as an initial rate schedule pursuant to Section 35.12 of the Federal Energy Regulatory Commission's (the Commission) Regulations, 18 CFR 35.12 an executed Interconnection Agreement, dated as of June 13, 2000 (the Agreement) between CMP and Bucksport Energy LLC (Bucksport or Customer) (for itself and as agent for Champion International Corporation, co-owner of the generating facility).

The Agreement provides for interconnection service to the Customer's facility at the rates, terms, charges, and conditions set forth therein. CMP is requesting that the Agreement become effective June 13, 2000.

Copies of this filing have been served upon the Commission, the Maine Public Utilities Commission, and the Customer.

Comment date: August 3, 2000, in accordance with Standard Paragraph E at the end of this notice.

24. Southern Company Services, Inc.

[Docket No. ER00-3139-000]

Take notice that on July 13, 2000, Southern Company Services, Inc. (SCS), acting on behalf of Alabama Power Company (APC), tendered for filing an Interconnection Agreement (Agreement) between Mobile Energy Services Company, L.L.C. and APC. The Agreement allows Mobile Energy to interconnect its facility in Mobile, Alabama to and operate in parallel with APC's electric system. The Agreement was executed on June 16, 2000 and terminates in one (1) year.

An effective date of June 20, 2000 has been requested.

Comment date: August 3, 2000, in accordance with Standard Paragraph E at the end of this notice.

25. Pacific Gas and Electric Company

[Docket No. ER00-3150-000]

Take notice that on July 13, 2000, Pacific Gas and Electric Company (PGandE Company), tendered for filing the Emergency Service Agreement Between Pacific Gas and Electric Company and Northern California Power Agency (NCPA). This Agreement is intended to facilitate NCPA's supplying of excess and reserve energy to the California Independent System Operator (CAISO) to support reliability of the electric grid in California this summer. Under this Emergency Service Agreement, when the CAISO requests dispatch of excess energy from NCPA and pays PGandE Company as NCPA's Scheduling Coordinator for that energy at the Hourly Ex-Post Price, PGandE Company will transfer such payments to NCPA subject to and based upon payments from CAISO. PGandE Company has requested certain waivers.

Copies of this filing have been served upon NCPA, the CAISO, the California Electricity Oversight Board, the CPUC and the Service List for FERC Docket No. EL00-75-000.

Comment date: August 3, 2000, in accordance with Standard Paragraph E at the end of this notice.

26. Cleco Utility Group Inc.

[Docket No. ER00-3140-000]

Take notice that on July 13, 2000, Cleco Utility Group, Inc. (CLECO), tendered for filing Non-Firm and Short term firm point-to-point transmission service agreements under its Open Access Transmission Tariff with The Legacy Energy Group, LLC.

CLECO requests that the Commission accept the Service Agreement with an effective date of July 17, 2000.

Comment date: August 3, 2000, in accordance with Standard Paragraph E at the end of this notice.

27. Puget Sound Energy, Inc.

[Docket No. ER00-3141-000]

Take notice that on July 13, 2000, Puget Sound Energy, Inc., tendered for filing a Netting Agreement with Duke Energy Trading and Marketing, L.L.C., (DETM).

A copy of the filing was served upon DETM.

Comment date: August 3, 2000, in accordance with Standard Paragraph E at the end of this notice.

28. Southern Company Services, Inc.

[Docket No. ER00-3142-000]

Take notice that on July 13, 2000, Southern Company Services, Inc. (SCS), acting on behalf of Alabama Power Company, Georgia Power Company, Gulf Power Company, Mississippi Power Company, and Savannah Electric and Power Company (collectively referred to as Southern Companies), tendered for filing Amendment No. 1 to the Agreement for Network Integration Transmission Service for Alabama Electric Cooperative, Inc., under Southern Companies Open Access Transmission Tariff to Add Delivery Points. The Amendment No. 1 provides that transmission service under the referenced service agreement (Service Agreement No. 225 under Southern Companies Open Access Transmission Tariff (FERC Electric Tariff Original Volume No. 5) is to be provided at five (5) new delivery points and specifies the direct assignment facility charges.

Comment date: August 3, 2000, in accordance with Standard Paragraph E at the end of this notice.

29. Puget Sound Energy, Inc.

[Docket No. ER00-3143-000]

Take notice that on July 13, 2000, Puget Sound Energy, Inc., tendered for filing a Netting Agreement with Citizens Power Sales LLC (Citizens).

A copy of the filing was served upon Citizens.

Comment date: August 3, 2000, in accordance with Standard Paragraph E at the end of this notice.

30. Puget Sound Energy, Inc.

[Docket No. ER00-3144-000]

Take notice that on July 13, 2000, Puget Sound Energy, Inc., tendered for filing a Netting Agreement with Williams Energy Marketing & Trading Company (Williams).

A copy of the filing was served upon Williams.

Comment date: August 3, 2000, in accordance with Standard Paragraph E at the end of this notice.

31. Southwest Power Pool, Inc.

[Docket No. ER00-3145-000]

Take notice that on July 13, 2000, Southwest Power Pool, Inc. (SPP), tendered for filing executed service agreements for Firm Point-to-Point Transmission Service, Non-Firm Point-to-Point Transmission Service and Loss Compensation Service with Public Service Company of New Mexico (Transmission Customer).

SPP seeks an effective date of July 5, 2000, for each of the service agreements.

Copies of this filing were served on the Transmission Customer.

Comment date: August 3, 2000, in accordance with Standard Paragraph E at the end of this notice.

32. PJM Interconnection, L.L.C.

[Docket No. ER00-3146-000]

Take notice that on July 13, 2000, PJM Interconnection, L.L.C. (PJM), tendered for filing a notice of cancellation for PG&E Energy Services Corporation (PG&E) to terminate its membership in PJM, to cancel certain service agreements between PJM and PG&E, and to remove it as a signatory to the Reliability Assurance Agreement Among Load Serving Entities in the PJM Control Area (RAA). PJM also is filing a revised Schedule 17 to the RAA removing PG&E from the list of signatories to the RAA.

PJM states that it served a copy of its filing on all of the members of PJM and the signatories to the RAA, including PG&E, and each of the state electric regulatory commissions within the PJM control area.

Comment date: August 3, 2000, in accordance with Standard Paragraph E at the end of this notice.

33. Lowell Cogeneration Company, L.P.

[Docket No. ER00-3147-000]

Take notice that on July 13, 2000, Lowell Cogeneration Company, L.P. (Lowell Cogen), tendered for filing a service agreement establishing Southern Company Energy Marketing L.P. (Southern) as a customer under Lowell Cogen's Rate Schedule No. 1.

Lowell Cogen requests waiver of the Commission's prior notice requirement and requests an effective date of May 1, 2000.

Lowell Cogen states that a copy of the filing was served on Southern.

Comment date: August 3, 2000, in accordance with Standard Paragraph E at the end of this notice.

34. Entergy Services, Inc.

[Docket No. ER00-3148-000]

Take notice that on July 13, 2000, Entergy Services, Inc., on behalf of Entergy Mississippi Inc., tendered for filing an Interconnection and Operating Agreement with Southaven Power LLC (Southaven), and a Generator Imbalance Agreement with Southaven.

Comment date: August 3, 2000, in accordance with Standard Paragraph E at the end of this notice.

35. Delmarva Power & Light Company, and Conectiv Delmarva Generation, Inc.

[Docket No. ER00-3168-000]

Take notice that on July 11, 2000, Conectiv Delmarva Generation, Inc. (CDG), tendered for filing notice that on July 11, 2000, hereby adopts, ratifies, and makes its own, in every respect Delmarva Power & Light Company's (Delmarva) interest in the “Interconnection Agreement by and Among the Keystone Owners and Pennsylvania Energy Company d/b/a GPU Energy,” Pennsylvania Electric Company, Rate Schedule FERC No. 115, and “Interconnection Agreement by and Among the Conemaugh Station Owner and the Conemaugh Switch Station Owners,” Delmarva Power & Light Company, Rate Schedule FERC No. 58, heretofore filed with the Federal Energy Regulatory Commission.

This Notice of Succession in Ownership shall be effective on July 1, 2000, the date of transfer of the interests in the Keystone and Conemaugh generating facilities from Delmarva to CDG.

Comment date: August 1, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-18611 Filed 7-21-00; 8:45 am]

BILLING CODE 6717-01-U